DEPARTMENT OF ENERGY

Federal Energy Regulatory Commission

[Docket No. CP06-76-000]

Algonquin Gas Transmission, LLC; Notice of Application

March 10, 2006.

Take notice that on March 1, 2006, Algonquin Gas Transmission, LLC (Algonquin), 5400 Westheimer Court, Houston, Texas 77056-5310, filed with the Federal Energy Regulatory Commission (Commission) an application under sections 7(b) and 7(c) of the Natural Gas Act and part 157 of the Commission's regulations for a certificate of public convenience and necessity seeking authorization: (1) To construct, install, own, operate, and maintain certain facilities, known as the Ramapo Expansion Project, as well as replace and abandon other existing facilities in order to meet requests from two shippers for the receipt of natural gas from the proposed new interconnection with Millennium Pipeline Company, L.P. (Millennium) at Ramapo, New York; and (2) to implement an initial incremental surcharge for service on the Project facilities.

The Project is related to Millennium's Phase I Project (CP98-150-006), Empire Pipeline's Empire Connector Project (CP06-5-000, et al.) and the Iroquois Gas Transmission Project in PF06-000. Specifically, Algonquin proposes to: (1) Abandon and remove approximately 4.8 miles of 26-inch diameter pipeline and replace with 42-inch diameter pipeline, in the towns of Ramapo and Haverstraw, Rockland County, New York; (2) construct a new compressor station totaling 37,700 horsepower in Oxford, Connecticut; (3) add 18,010 horsepower at the existing Southeast Station in Southeast, Putnam County, New York; (4) add 8,400 horsepower at the existing Stony Point Station, in Stony Point, Rockland County, New York; and (5) add 7,700 horsepower at the existing Hanover Station, in Hanover, Morris County, New Jersey. Algonquin also proposes minor pipe replacements on the west side of its existing Hudson River Crossing, piping modifications at two existing interconnections, and adding a new delivery point at an existing interconnection.

The application is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding this application should be directed to Steven E. Tillman, General Manager, Regulatory Affairs, Algonquin Gas Transmission, LLC, P.O. Box 1642, Houston, Texas 77251-1642, phone (713) 627-5113 or fax (713) 627-5947.

On November 30, 2005, the Commission staff granted Algonquin's request to utilize the National Environmental Policy Act (NEPA) Pre-Filing Process and assigned Docket No. PF06-5-000 to staff activities involving the Ramapo Expansion Project. Now, as of the filing of this application on March 1, 2006, the NEPA Pre-Filing Process for this project has ended. From this time forward, this proceeding will be conducted in Docket No. CP06-76-000, as noted in the caption of this Notice.

There are two ways to become involved in the Commission's review of this project. First, any person wishing to obtain legal status by becoming a party to the proceedings for this project should, on or before the comment date listed below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of this filing and all subsequent filings made with the Commission and must mail a copy of all filing to the applicant and to every other party in the proceeding. Only parties to the proceeding can ask for court review of Commission orders in the proceeding.

However, other persons do not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to this project provide copies of their protests only to the party or parties directly involved in the protest.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Process in Docket No. PF06-5-000 are already on the Commission staff's environmental mailing list for the proceeding in the above dockets and may file additional comments on or before the below listed comment date. Environmental commenters will not be required to serve copies of filed documents on all other parties. However, environmental commenters are also not parties to the proceeding and will not receive copies of all documents filed by other parties or non-environmental documents issued by the Commission. Further, they will not have the right to seek court review of any final order by Commission in this proceeding.

The Commission strongly encourages electronic filings of comments, protests, and interventions via the Internet in lieu of paper. See 18 CFR 385.2001(a)(1)(iii) and the instructions on the Commission's Web site (http://www.ferc.gov) under the “e-Filing” link.

Comment Date: March 31, 2006.

Magalie R. Salas,
Secretary.

[FR Doc. E6-3889 Filed 3-16-06; 8:45 am]

BILLING CODE 6717-01-P